DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,248; NAS Interplex, Inc., Flushing, NY

TA-W-41,183; Alcoa Lebanon Works, A Div. Of Alcoa, Inc., Lebanon, PA

In the following cases, the investigation revealed that the criteria for eligibility have not been met for the reasons specified.

The workers firm does not produce an article as required for certification under Section 222 of the Trade Act of 1974.

TA-W-41,393; Transylvania Vocational Services (TVS), Inc., Brevard, NC

TA-W-41,206; ICF Industries, Inc., Edison, NJ

The investigation revealed that criteria (2) has not been met. Sales or production did not decline during the relevant period as required for certification.

TA-W-40,576; Jones Apparel Group USA, Inc., Bristol, PA

Increased imports did not contribute importantly to worker separations at the firm.

TA-W-40,016 & A, B; Schott Corp., Marshall, MN, Minneota, MN and Canby, MN

TA-W-41,238; Keystone Thermistor Corp., Mt. Jewett, PA

TA-W-41,301; Schlumbergersema, Inc., San Carlos, CA

TA-W-41,294; Northwind Outdoor Co., Overton's, Inc., Fergus Falls, MN

TA-W-41,475; Ruger Equipment, Inc., Urichsville, OH

Affirmative Determinations for Worker Adjustment Assistance

The following certifications have been issued; the date following the company name and location of each determination references the impact date for all workers of such determination.

TA-W-41,342; American Furniture Co., Chilhowie, VA: March 20, 2001.

TA-W-41,407; Leviton Manufacturing Co., Inc., El Paso Operations, El Paso, TX: April 10, 2001.

TA-W-41,461; Renfro Corp., South Pittsburg, TN: April 8, 2001.

TA-W-41,262; Alexander Garments, Inc., Hialeah, FL: February 15, 2001.

TA-W-41,063; Lakemont Manufacturing Co., Inc., Lakemont, GA: January 24, 2001.

TA-W-41,473; Mount Vernon Mills, Inc., Alto Yarn Division, Alto, GA: April 12, 2001.

TA-W-41,232; Presto Lifts, Inc., Pawtucket, RI: March 25, 2001.

TA-W-41,234 & A; Spring Ford Industries, Spindale, NC and Rutherfordton, NC: March 20, 2001.

TA-W-41,466; Execumold, Inc., (Currently Located at Fairview, Pennsylvania), Erie, PA: February 21, 2001.

TA-W-41,472; Deerter's Tool and Manufacturing, Inc., Erie, PA: March 28, 2001.

TA-W-41,066; Guilford Mills, Inc., Twin Rivers Textile, Schenectady, NY: February 6, 2001.

TA-W-41,214; Gem-Dandy, Inc., Madison, NC: February 22, 2001.

TA-W-41,219; Spring Ford Industries, Gastonia, NC: March 22, 2001.

TA-W-41,220; Spring Ford Industries, Chilhowie, VA: January 20, 2002.

TA-W-41,226; Emerson Tool Co., Menominee, MI: March 21, 2001.

TA-W-41,535; Sights Denim Systems, Inc., Henderson, KY: May 6, 2001.

TA-W-41,476; Warnaco, Inc., Calvin Klein Div., Abbeville, NC: April 10, 2001.

TA-W-41,397; American Fashion, Inc., Chula Vista, CA: March 26, 2001.

TA-W-40,311; Quickie Manufacturing Corp., El Paso, TX: February 15, 2001.

TA-W-41,470; Milco Industries, Inc., Bloomsburg, PA: April 28, 2002.

TA-W-39,136; Western Electronics, Eugene Div., Eugene, OR: April 6, 2000.

TA-W-41,454; K and J Clothing, Inc., Philadelphia, PA: March 29, 2001.

TA-W-41,471; Cummins, Inc., Cummins Power Generation, Fridley, MN: April 8, 2001.

TA-W-41,296; Mullican Lumber Co., LP, Appalachia, VA: March 28, 2001.

TA-W-41,426 & A; Fairbrooke Enterprises, Inc., Carlstadt, NJ and New York, NY: April 8, 2001.

TA-W-41,377; Levi Strauss & Co., San Francisco Manufacturing Plant, San Francisco, CA, A; Blue Ridge Manufacturing Plant, Blue Ridge, GA, B; Powell Manufacturing Plant, Powell, TN, C; Brownsville Manufacturing Plant, Brownsville, TX, D; Kastrin Manufacturing Plant, El Paso, TX, E; San Benito Manufacturing Plant, San Benito, TX, G; Little Rock Customer Service Center, Little Rock, AR, H; Hebron Customer Service Center, Hebron, KY, I; Sky Harbor Customer Service Center, Henderson, NE, J; Canton Customer Service Center, Canton, MS, K; CF Regional Dallas Office, Dallas, TX, L; Westlake Data Center, Westlake, TX, M; San Francisco Headquarters, San Francisco, CA, N; Oak Road Office, Walnut Creek, CA: April 11, 2001.

TA-W-40,995; Bosch Rexroth Corp., Industrial Hydraulics Div., Racine, WI: March 11, 2001.

TA-W-41,098; Marathon Electric, Inc., A Subsidiary of Regal-Beloit Corp., Wausau, WI: February 13, 2001.

TA-W-41,002; Flextronics Enclosures Systems, Inc., Kingston, PA: January 11, 2001.

Also, pursuant to Title V of the North American Free Trade Agreement Implementation Act (Pub. L. 103-182) concerning transitional adjustment assistance hereinafter called (NAFTA-TAA) and in accordance with section 250(a), subchaper D, chapter 2, Title II, of the Trade Act as amended, the Department of Labor presents summaries of determinations regarding eligibility to apply for NAFTA-TAA issued during the months of July, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05999; Flextronics Enclosures Systems, Inc., Kingston, PA

NAFTA-TAA-06018; Johnson Controls International, Fullerton, CA

NAFTA-TAA-06138; Milco Industries, Inc., Apparel Div., Bloomsburg, PA

NAFTA-TAA-06169; Schlumbergersema, Inc., San Carlos, CA

NAFTA-TAA-06219; Pillowtex Corp., Phenix City Facility Finishing and Weave and Columbus Towel Greige, Phenix City, AL

NAFTA-TAA-06128; Deeter's Tool and Manufacturing, Inc., Erie, PA

NAFTA-TAA-06059; New Images, Inc., Reidsville, NC

NAFTA-TAA-06050; NAS Interplex, Inc., Flushing, NY

NAFTA-TAA-05987; Alcoa Lebanon Works, A Div. Of Alcoa, Inc., Lebanon, PA

NAFTA-TAA-05959; Gem-Dandy, Inc., Madison, NC

NAFTA-TAA-05758; Bosch Rexroth Corp., Industrial Hydraulics Div., Racine, WI

NAFTA-TAA-05738; Drexel Heritage Furnishings, Inc., Plant Number 1, Drexel, NC

NAFTA-TAA-05227; Union Apparel, Inc., Norvelt, PA

The investigation revealed that the criteria for eligibility have not been met for the reasons specified.

The investigation revealed that workers of the subject firm did not produce an article within the meaning of Section 250(a) of the Trade Act, as amended.

NAFTA-TAA-06034; Alcatel USA, Repair/Returns, Ogdensburg, NY

NAFTA-TAA-06174; Transylvania Vocational Services, (TVS), Inc., Brevard, NC

The investigation revealed that criteria (2) has not been met. Sales or production did not decline during the relevant period as required for certification.

NAFTA-TAA-5604; Jones Apparel Group USA, Inc., Bristol, PA

NAFTA-TAA-05659; Liz Claiborne, Inc., Mt. Pocono, PA

Affirmative Determinations NAFTA-TAA

NAFTA-TAA-06134; Keystone Termistor Corp., Mt. Jewett, PA: April 1, 2001.

NAFTA-TAA-06200; ASCO Power Technologies, LP, Firetrol, Including Leased Workers of Onsite Companies, Cary, NC: May 10, 2001.

NAFTA-TAA-06105; Warnaco, Inc., Calivin Klein Div., Abbeville, SC: April 12, 2001.

NAFTA-TAA-06098; Leviton Manufacturing Co., Inc., El Paso Operations, El Paso, TX: March 28, 2001.

NAFTA-TAA-06095; Levi Strauss & Co., San Francisco Manufacturing Plant, San Francisco, CA, A; Blue Ridge Manufacturing Plant, Blue Ridge, GA, B; Powell Manufacturing Plant, Powell, TN, C; Brownsville Manufacturing Plant, Brownsville, TX, D; Kastrin Manufacturing Plant, El Paso, TX, E; San Antonio Finishing Plant, San Antonio, TX, F; San Benito Manufacturing Plant, San Benito, TX, G; Little Rock Customer Service Center, Little Rock, AR, H; Hebron Customer Service Center, Hebron, KY, I; Sky Harbor Customer Service Center, Henderson, NE, J; Canton Customer Service Center, Canton, MS, K; CF Regional Dallas Office, Dallas, TX, L; Westlake Data Center, Westlake, TX, M; San Francisco Headquarters, San Francisco, CA, N; Oak Road Office, Walnut Creek, CA: April 11, 2001.

NAFTA-TAA-04751; Western Electronics, Eugene Div., Eugene, OR: April 6, 2000.

NAFTA-TAA-05061; Great Lakes Stitchery, Inc., Manistee, MI: July 10, 2000.

NAFTA-TAA-06042; American Fashion, Inc., Chula Vista, CA: March 21, 2001.

NAFTA-TAA-05881; Marathon Electric, Inc., A Subsidiary of Regal-Beloit Corp., Wausau, WI: February 19, 2001.

NAFTA-TAA-6232; West Penn Hat and Cap Corp., Creighton, PA: May 14, 2001.

NAFTA-TAA-06115; Garlock Sealing Technologies, A Div. Of B.F. Goodrich, Sodus Facility, Palmyra, NY: October 2, 2000.

NAFTA-TAA-6101; Mount Vernon Mills, Inc., Alto Yarn Div., Alto, GA: April 12, 2001.

NAFTA-TAA-05995; Emerson Tool Co., Menominee, MI: March 21, 2001.

NAFTA-TAA-05993; Spring Ford Industries, Rutherfordton, NC: March 20, 2001.

NAFTA-TAA-05992; Spring Ford Industries, Gastonia, NC: March 22, 2001.

NAFTA-TAA-05971; Spring Ford Industries, Spindale, NC: March 14, 2001.

NAFTA-TAA-06163; Sights Denim Systems, Inc., Henderson, KY: May 6, 2001.

I hereby certify that the aforementioned determinations were issued during the months of July, 2002. Copies of these determinations are available for inspection in Room C-5311, U.S. Department of Labor, 200 Constitution Avenue, NW., Washington, DC 20210 during normal business hours or will be mailed to persons who write to the above address.

Dated: July 12, 2002.
Edward A. Tomchick,
Director, Division of Trade Adjustment Assistance.

[FR Doc. 02-18420 Filed 7-19-02; 8:45 am]

BILLING CODE 4510-30-P